JUDICIAL CONFERENCE OF THE UNITED STATES

Hearings of the Judicial Conference Advisory Committee on the Federal Rules of Bankruptcy Procedure

AGENCY: Judicial Conference of the United States Advisory Committee on the Federal Rules of Bankruptcy Procedure.

ACTION: Notice of proposed amendments to Bankruptcy Rule 3015, Proposed New Bankruptcy Rule 3015.1, and of open hearings.

SUMMARY: The Advisory Committee on the Federal Rules of Bankruptcy Procedure has proposed amendments to Bankruptcy Rule 3015, and adoption of new Bankruptcy Rule 3015.1. The text of the proposed rules and the accompanying Committee Notes are posted on the Judiciary's Web site at: http://www.uscourts.gov/rules-policies/proposed-amendments-published-public-comment.

All written comments and suggestions with respect to the proposed amendments may be submitted on or after the opening of the period for public comment on July 1, 2016, but no later than October 3, 2016. Written comments must be submitted electronically, following the instructions provided on the Web site. All comments submitted will be available for public inspection.

A public hearing is scheduled to be held on the proposed amendments in Pasadena, California on September 27, 2016. Those wishing to testify must contact the Secretary at the address below in writing at least 30 days before the hearing.

FOR FURTHER INFORMATION CONTACT: Rebecca A. Womeldorf, Secretary, Committee on Rules of Practice and Procedure of the Judicial Conference of the United States, Thurgood Marshall Federal Judiciary Building, One Columbus Circle NE., Suite 7-240, Washington, DC 20544, Telephone (202) 502-1820.

Dated: June 23, 2016.
Rebecca A. Womeldorf,
Secretary, Committee on Rules of Practice and Procedure, Judicial Conference of the United States.

[FR Doc. 2016-15218 Filed 6-27-16; 8:45 am]

BILLING CODE 2210-55-P